DEPARTMENT OF TRANSPORTATION

Federal Aviation Administration

Notice of Intent To Rule on Request To Release Airport Property at the Monroe Regional Airport at Monroe, Louisiana.

AGENCY: Federal Aviation Administration (FAA), DOT.

ACTION: Notice of request to release airport property.

SUMMARY: The FAA proposes to rule and invite public comment on the release of land at the Monroe Regional Airport at Monroe, Louisiana under the provisions of Section 125 of the Wendell H. Ford Aviation Investment Reform Act for the 21st Century (AIR 21).

DATES: Comments must be received on or before (from 30 days of the posting of this Federal Register Notice).

ADDRESSES: Comments on this application may be mailed or delivered to the FAA at the following address: Mr. Lacey Spriggs, Manager, Federal Aviation Administration, Louisiana/New Mexico Airports District Office, ASW-640, 10101 Hillwood Parkway, Fort Worth, Texas 76177.

In addition, one copy of any comments submitted to the FAA must be mailed or delivered to Mr. Ron Phillips, Airport Manager, at the following address: Monroe Regional Airport, 5400 Operations Drive, Room 200, Monroe, Louisiana 71203.

FOR FURTHER INFORMATION CONTACT: Mr. Bill Bell, Lead Engineer, Federal Aviation Administration, Louisiana/New Mexico Airports District Office, ASW-640, 10101 Hillwood Parkway, Fort Worth, Texas 76177, telephone: (817) 222-5664, email: Bill.Belll@faa.gov, fax: (817) 222-5987.

The request to release property may be reviewed in person at this same location.

SUPPLEMENTARY INFORMATION: The FAA invites public comment on the request to release property at the Monroe Regional Airport at Monroe, Louisiana under the provisions of the AIR 21.

The following is a brief overview of the request:

The City of Monroe requests the release of 1.105 acres of aeronautical airport property. The property is located in the Airport Industrial Park area. The property to be released will be sold and revenues shall be used to fund the Bermuda Release Program and purchase a tractor for the operation and maintenance at the airport.

Any person may inspect the request in person at the FAA office listed above under FOR FURTHER INFORMATION CONTACT.

In addition, any person may, upon request, inspect the application, notice and other documents relevant to the application in person at the Monroe Regional Airport at Monroe, Louisiana, telephone number (318) 329-2460.

Issued in Fort Worth, Texas on December 7, 2015.
Ignacio Flores,
Manager, Airports Division.

[FR Doc. 2016-02563 Filed 2-8-16; 8:45 am]

BILLING CODE 4910-13-P